DEPARTMENT OF THE INTERIOR

National Park Service

Notice of Intent to Repatriate Cultural Items: Phoebe A. Hearst Museum of Anthropology, University of California, Berkeley, Berkeley, CA

AGENCY: National Park Service, Interior.

ACTION: Notice.

Notice is here given in accordance with the Native American Graves Protection and Repatriation Act, (NAGPRA), 25 U.S.C. 3005, of the intent to repatriate cultural items in the possession of the Phoebe A. Hearst Museum of Anthropology, University of California, Berkeley, Berkeley, CA, that meet the definition of “sacred objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In April 1952, seven cultural items were removed by Gordon L. Grosscup from a cave described in museum documents as “Prayer Cave, NV-Ly-3.” Mr. Grosscup donated the cultural items to the museum later that same year. The seven cultural items are four “Prayer Sticks” (catalog number 2-28953); one “For-shaft of dart” (catalog number 2-28954); one lot of fragments described as “White paint?” (catalog number 2-28955); and one item described as a “Stick, charred at one end” (catalog number 2-28956).

In an article written in 1974, Mr. Grosscup described the site:

The special site, 26-Ly-3, is located not far from Fort Churchill. It is a cave high up on a cliff above the Carson River. Small wooden sticks are stuck into the crevices in the walls of the cave in great numbers and there are a number of white pictographs of humans, most of which are very obviously male, painted on the smooth rock surfaces. This cave is also known to the modern Northern Paiute as having medicinal properties.

Site NV-Ly-03 is a complex of caves along a cliff face, above the Carson River. The site is near Fort Churchill and is located on private property. These caves are within the traditional territory of the Northern Paiute and are only a few miles from the Yerington Reservation per “Ethnographic Notes on the Northern Paiute of Western Nevada,” by Willard Z. Park. The museum's professional staff consulted with representatives of the Yerington Paiute Tribe of the Yerington Colony & Campbell Ranch, Nevada, who reaffirmed the tribe's belief that Prayer Cave and its contents are sacred, and that the cave and its contents are part of on-going ceremonies and beliefs. A representative of the Yerington Paiute Tribe of the Yerington Colony & Campbell Ranch, Nevada has also confirmed that the sticks (catalog numbers 2-28954 and 2-28956) are prayer sticks, despite their not having been identified as such by museum records. Phoebe A. Hearst Museum of Anthropology professional staff has confirmed the affiliation of the cultural items to the Yerington Paiute Tribe of the Yerington Colony & Campbell Ranch, Nevada through published written documentation.

Officials of the Phoebe A. Hearst Museum of Anthropology have determined that, pursuant to 25 U.S.C. 3001 (3)(C), the seven cultural items are specific ceremonial objects needed by traditional Native American religious leaders for the practice of traditional Native American religions by their present-day adherents. Officials of the Phoebe A. Hearst Museum of Anthropology also have determined that, pursuant to 25 U.S.C. 3001 (2), there is a relationship of shared group identity that can be reasonably traced between the sacred objects and the Yerington Paiute Tribe of the Yerington Colony & Campbell Ranch, Nevada.

Representatives of any other Indian tribe that believes itself to be culturally affiliated with the sacred objects should contact Dr. Judd King, Museum Director, Phoebe A. Hearst Museum of Anthropology, 103 Kroeber Hall, University of California, Berkeley, Berkeley, CA 94720-3712, telephone (510) 642-3682, before January 29, 2009. Repatriation of the sacred objects to the Yerington Paiute Tribe of the Yerington Colony & Campbell Ranch, Nevada may proceed after that date if no additional claimants come forward.

The Phoebe A. Hearst Museum of Anthropology is responsible for notifying the Yerington Paiute Tribe of the Yerington Colony & Campbell Ranch, Nevada that this notice has been published.

Dated: November 19, 2008
Sherry Hutt,
Manager, National NAGPRA Program.

[FR Doc. E8-30890 Filed 12-29-08; 8:45 am]

BILLING CODE 4312-50-S